SOCIAL SECURITY ADMINISTRATION

[Docket No. SSA-2024-0049]

Social Security Ruling, SSR 24-3p.; Titles II and XVI: Use of Occupational Information and Vocational Specialist and Vocational Expert Evidence in Disability Determinations and Decisions

AGENCY: Social Security Administration.

ACTION: Notice of Social Security Ruling (SSR).

SUMMARY: We are providing notice of SSR 24-3p. This SSR rescinds and replaces “SSR 00-4p: Titles II and XVI: Use of Vocational Expert and Vocational Specialist Evidence, and Other Reliable Occupational Information in Disability Decisions”, and explains our standard for evaluating whether vocational evidence is sufficient to support a disability determination or decision.

DATES: We will apply this notice on January 6, 2025.

FOR FURTHER INFORMATION CONTACT: Patrick McGuire, Social Security Administration, Office of Analytics, Review, and Oversight, Appellate Operations, 6401 Security Boulevard, Baltimore, MD 21235-6401, (703) 605-7100, for information about this notice. For information on eligibility or filing for benefits, call our national toll-free number, 1-800-772-1213 or TTY 1-800-325-0778, or visit our internet site, Social Security Online, at https://www.ssa.gov.

SUPPLEMENTARY INFORMATION: Although 5 U.S.C. 552(a)(1) and (a)(2) do not require us to publish this SSR, we are publishing it in accordance with 20 CFR 402.35(b)(1).

SSRs represent precedential final opinions, orders, and statements of policy and interpretations that we have adopted relating to the Federal Old Age, Survivors, and Disability Insurance program, and Supplemental Security Income program. We may base SSRs on determinations or decisions made in our administrative review process, Federal court decisions, decisions of our Commissioner, opinions from our Office of the General Counsel, or other interpretations of law and regulations.

Although SSRs do not have the same force and effect as law, they are binding on all SSA components in accordance with 20 CFR 402.35(b)(1).

This SSR will remain in effect until we publish a notice in the Federal Register that rescinds it, or until we publish a new SSR that replaces or modifies it.

The Acting Commissioner of Social Security, Carolyn W. Colvin, having reviewed and approved this document, is delegating the authority to electronically sign this document to Erik Hansen, a Federal Register Liaison for the Social Security Administration, for purposes of publication in the Federal Register.

Erik Hansen,
Associate Commissioner, for Legislative Development and Operations, Social Security Administration.

Policy Interpretation Ruling

SSR 24-3p: Titles II and XVI: Use of Occupational Information and Vocational Specialist and Vocational Expert Evidence in Disability Determinations and Decisions

This SSR rescinds and replaces SSR 00-4p: Titles II and XVI: Use of Vocational Expert and Vocational Specialist Evidence, and Other Reliable Occupational Information in Disability Decisions.

Citations (Authority): Sections 216(i), 223(d)(2)(A), and 1614(a)(3)(B) of the Social Security Act, as amended and 20 CFR 404.1560, 404.1566-404.1569, Part 404 Subpart P Appendix 2, 416.960, and 416.966-416.969.

Dates: We will apply this notice on January 6, 2025.¹

¹ We will use this SSR beginning on its applicable date. We will apply this SSR to new applications filed on or after the applicable date of the SSR and to claims that are pending on or after the applicable date. This means that we will use this SSR on and after its applicable date in any case in which we make a determination or decision. We expect that Federal courts will review our final decisions using the rules that were in effect at the time we issued the decisions. If a court reverses our final decision and remands a case for further administrative proceedings after the applicable date of this SSR, we will apply this SSR to the entire period at issue in the decision we make after the court's remand.

Purpose: When we make disability determinations and decisions, we may ask impartial vocational specialists (VS) or vocational experts (VE) to provide evidence about work. VSs and VEs give us evidence tailored to the specific facts of the cases about which we consult them, based on their professional knowledge, training, and experience and the vocational data available to them.

In 2000, we issued SSR 00-4p, which explains that, before relying on VS and VE evidence to support a disability decision, our adjudicators must (1) identify and obtain a reasonable explanation for any conflicts between occupational information provided by a VS or VE and information in the Dictionary of Occupational Titles (DOT), including its companion publication, the Selected Characteristics of Occupations Defined in the Revised Dictionary of Occupational Titles; and (2) explain in the determination or decision how any conflict that has been identified was resolved.

We continue to recognize the DOT as a valid and reliable source of occupational information, and we will continue to use it in adjudication. However, we acknowledge that the DOT is not the only reliable source of occupational information. We note that recent federal statistical data relating to work in the national economy uses the Standard Occupational Classification (SOC) system ² and that the SOC system for classifying occupations is different from that of the DOT. The requirements of SSR 00-4p make it difficult to use these other sources, because it is not clear how a VS, VE or adjudicator can fulfill the requirement to identify and resolve conflicts with the DOT when primarily using a data source that is, structurally, very different from the DOT. We do not want to discourage use of occupational information that is reliable and commonly used in the vocational profession. In addition, our adjudicative experience since we issued SSR 00-04p has shown that requiring our adjudicators, VSs, and VEs to identify and explain conflicts with the DOT is time consuming. At the hearing level, the requirements of SSR 00-4p have led to unnecessary remands to resolve apparent conflicts that were not identified at the hearing when the VE testified, and the requirements of SSR 00-4p might discourage VSs and VEs from using occupational data in sources other than the DOT.

² During the 1980s and 1990s, the Office of Management and Budget (OMB) led the effort to standardize various occupational classification systems then in use across the federal government with a SOC system to “promote a common language for categorizing occupations in the world of work.” 62 FR 36338, 36338 (July, 1997), available at https://www.bls.gov/soc/2000/frn-july-7-1997.pdf.

This ruling explains our standard for evaluating whether vocational evidence is sufficient to support a determination or decision. We are rescinding SSR 00-04p and will no longer require our adjudicators to identify and resolve conflicts between occupational information provided by VSs and VEs and information in the DOT.

Pertinent History: We use a five-step sequential evaluation process to determine whether an individual is disabled. We may use VS or VE evidence at steps four and five in that process.

At step four of the sequential evaluation process, we consider whether an individual, given their residual functional capacity (RFC), can perform any of their past relevant work (PRW) either as the individual actually performed it or as the work is generally performed in the national economy. If we find that the individual can perform any of their PRW, we will find that the individual is not disabled. If the individual cannot perform any of their PRW, we go to the fifth step of the sequential evaluation process.

At step five of the sequential evaluation process, we consider whether an individual's impairment(s) prevents them from adjusting to other work that exists in significant numbers in the national economy, considering their RFC and the vocational factors of age, education, and work experience. If we find that the individual cannot adjust to other work, we will find that the individual is disabled. If we find that the individual can adjust to other work, we will find that the individual is not disabled.

In appropriate instances, we use the medical-vocational guidelines to decide whether work exists in the national economy.³ When an individual's RFC and vocational factors of age, education, and work experience correspond to a rule in the medical-vocational guidelines, that rule applies and directs a decision of “disabled” or “not disabled.” Where our finding of fact about an individual's RFC or a vocational factor does not correspond precisely to a medical-vocational rule, the guidelines provide a framework to guide our decision-making.

³ 20 CFR part 404 subpart P appendix 2.

Our regulations state that we will take administrative notice of reliable job information.⁴ In certain cases, we use VSs and VEs as sources of job-related evidence ⁵ including evidence about whether an individual's work skills can be used in other work, the specific occupations in which they can be used, or a similarly complex issue. VSs and VEs provide expert vocational evidence and rely on the publications listed in 20 CFR 404.1566(d) and 416.966(d) or other reliable sources of occupational information. VEs and VSs may use any reliable source of occupational information that is commonly used by vocational professionals and is relevant under our rules, along with their professional knowledge, training, and experience. VEs and VSs may use a combination of these sources when providing occupational evidence. Adjudicators must weigh the VE or VS evidence in the context of the overall record and determine whether it can support a conclusion at step four or step five.

⁴ 20 CFR 404.1566(d) and 416.966(d).

⁵ 20 CFR 404.1566(e) and 416.966(e).

Policy Interpretation

The DOT

Our rules, such as regulatory terms and definitions, and our guidance are controlling for our adjudicators. The DOT, which, as noted above, we continue to take administrative notice of as a reliable source, corresponds to many of our rules and guidance. For example, the maximum requirements of occupations as generally performed in the DOT correspond directly to our rules and guidance. We classify jobs as sedentary, light, medium, heavy, and very heavy, using the same meaning as those terms have in the DOT. Our categorization of skills also corresponds with the DOT. The DOT lists a specific vocational preparation (SVP) level for each occupation it describes. Our skill level definitions in 20 CFR 404.1568 and 416.968, of unskilled, semi-skilled, and skilled work as corresponding to DOT SVP levels of 1 to 2, 3 to 4, and 5 to 9.

VS and VE Occupational Evidence

We may also ask a VS or VE to provide evidence concerning a variety of case-specific factual issues. A VS or VE may offer evidence concerning the physical and mental demands of an individual's past relevant work, either as actually performed by the individual or as generally performed in the national economy,⁶ evidence concerning whether an individual's work skills can be used in other work and the specific occupations in which they can be used, or evidence regarding similarly complex issues.⁷ We may ask VSs and VEs to offer examples of other occupations an individual can perform. Additionally, VEs may offer estimates of the number of jobs that exist in the national economy in such occupations.⁸ We do not dictate any specific approach to estimating job numbers, and the numbers provided are only general estimates. Our adjudications are non-adversarial,⁹ and we process millions of cases each year. Our adjudicators must determine whether VS or VE evidence is adequate to decide the claim and must do so efficiently.

⁶ 20 CFR 404.1560(b)(2) and 416.960(b)(2).

⁷ 20 CFR 404.1566(e) and 416.966(e).

⁸ See 20 CFR 404.1566(e) and 416.966(e). See also SSR 83-12 Titles II and XVI: Capability to Do Other Work—The Medical-Vocational Rules as a Framework for Evaluating Exertional Limitations Within a Range of Work or Between Ranges of Work, SSR 83-14 Titles II and XVI: Capability to Do Other Work—The Medical-Vocational Rules as a Framework for Evaluating a Combination of Exertional and Nonexertional Impairments, and SSR 96-9p Titles II and XVI: Determining Capability to Do Other Work—Implications of a Residual Functional Capacity for Less Than a Full Range of Sedentary Work.

⁹ 20 CFR 404.900(b) and 416.1400(b). The rules of evidence used in federal courts do not apply. 42 U.S.C. 405(b)(1).

VSs and VEs may provide evidence based on their professional experience and any reliable source of occupational information that is commonly used in the vocational profession and relevant under our rules. VSs and VEs are in the best position to determine the most appropriate sources of data to support the evidence they offer. We expect VSs and VEs to identify the sources of the data they use and, where applicable, to explain their general approach to estimating job numbers. If the VS or VE uses a data source that defines exertion, education, or skill levels differently than our regulations, we expect the VS or VE to explain the difference. We may instruct VSs or VEs to address other concerns as needed. For example, VSs and VEs should identify and explain if they cite an occupation that is performed in a different way than identified in the source of data they used. Because VEs and VSs are impartial and qualified professionals whom we consult because of their expertise, a more detailed inquiry into the sources of data or approaches used is not usually required. At the hearing level, when the claimant is represented, we expect the representative to raise any relevant questions or challenges about the VE's testimony at the time of the hearing and to assist in developing the record through appropriate questions to the VE.¹⁰ Based on the vocational evidence in the case and the record overall, an adjudicator will determine whether the evidence provided by a VS or VE is adequate to support a decision at step four or five.

¹⁰ 20 CFR 404.1740 and 416.1540. Raising relevant questions about or challenges to the VE's testimony at the time of the hearing, when the VE is ready and available to answer them, furthers the efficient, fair, and orderly conduct of the administrative decision-making process.

Some sources of occupational data use definitions of exertion level, skill level, and education level that align closely with our program rules. The DOT is such a source. If a VS or VE uses a source that defines exertion, skill, or education level differently than our program rules, we expect the VS or VE to acknowledge the difference and explain whether or how they have accounted for the difference.

In addition, the VS or VE may cite to multiple acceptable sources of occupational data that do not precisely correspond to each other. In some instances, it may be necessary for the VS or VE to explain how they accounted for the differences in classification. For example, Federal agencies that collect occupational data now use the SOC system. One difference between the DOT and the SOC system is that the SOC system aggregates occupational data at a higher level. While there are some SOC codes that correspond to a single DOT code, other SOC codes may correspond to a large number of DOT codes.¹¹ VSs and VEs may rely on occupational sources that use the SOC system. Examples of these data sets include, but are not limited to, the U.S. Bureau of Labor Statistics' Occupational Employment and Wage Statistics (OEWS), and the Occupational Requirements Survey (ORS).

¹¹ For example, SOC 11-9171 Funeral Home, Manager matches to one DOT Code 187.167-030 Funeral Director; however, SOC 51-9061 Inspectors, Testers, Sorters, Samplers, and Weighers matches to 782 DOT codes.

For example, VEs may cite occupations from the DOT but derive estimates of job numbers from the OEWS when providing evidence to us in our hearings process. Because the DOT uses a different classification taxonomy from the SOC system, VEs would need to explain the general approach of how they compared the DOT data to the data about estimates of job numbers in OEWS, a SOC-based classification system.¹² In this example, the VE could address the SOC group for the corresponding DOT code and explain how the estimates of job numbers for the specific occupation are derived from the overall numbers for the SOC group. A detailed inquiry is not required, but if a VE does not provide any explanation about the general approach, our adjudicators should ask them to provide one.

¹² If VEs rely only on sources that use the same classification systems, then they do not need to provide a crosswalk. For example, if a VE uses ORS and OEWS, which both use the SOC system, then no crosswalk is necessary. Similarly, if a VE relies only on the DOT, no crosswalk is necessary. The DOT, however, does not provide information about job numbers.

Consider the following illustration: at a hearing, an ALJ presents a hypothetical question to a VE regarding a younger individual with a high school education and no transferable skills, who can perform a reduced range of light work. The VE explains that the DOT and OEWS are the data sources used for the testimony. The VE then testifies that the hypothetical individual can perform work in the DOT occupation of Fast-Foods Worker (DOT Code 311.472-010). The VE relies on their experience along with published comparisons between the DOT and SOC ¹³ to identify the closest related SOC group as 35-3023 Fast Food and Counter Workers. The VE explains that five additional DOT occupations crosswalk to the same SOC group,¹⁴ and that OEWS data shows there are 3,325,050 jobs nationally for the Fast Food and Counter Workers SOC group.¹⁵ Considering the limitations in the hypothetical question, the VE explains that the Fast-Foods Worker (DOT Code 311.472-010) occupation occurs more frequently in the labor market than the other five DOT jobs in the same SOC group. Then, the VE states that the Fast-Food Worker occupation accounts for 1,300,000 jobs in the SOC group. The VE explains that the response was based on the VE's experience, training, observation of how the job is performed in multiple settings and industries, and familiarity with the job market estimates.

¹³ When OMB mandated the SOC system for occupational data collection, Federal agencies developed crosswalks from the existing taxonomies to the SOC. 64 FR 53136, 53139 (1999), available at https://www.govinfo.gov/content/pkg/FR-1999-09-30/pdf/99-25445.pdf. The DOT crosswalk file is available at https://www.onetcenter.org/crosswalks.html.

¹⁴ The other five DOT codes are: DOT Code 311.477-014 Counter Attendant, Lunchroom or Coffee Shop; DOT Code 311.477-038 Waiter/Waitress, Take Out; DOT Code 311.674-010 Canteen Operator; DOT Code 311.677-014 Counter Attendant, Cafeteria; DOT Code 319.474-010 Fountain Server.

¹⁵ U.S. Bureau of Labor Statistics. OEWS, May 2022. https://www.bls.gov/oes/current/oes353023.htm.

Adjudicator Responsibilities

Our adjudicators are responsible for evaluating the VS or VE evidence within the context of the overall evidence in the claim. If the VS or VE does not provide the expected information and explanation outlined above, the adjudicator will usually need to develop the record with sufficient evidence to make a supported finding at step four or step five of the sequential evaluation process.¹⁶

¹⁶ Our determinations and decisions are based on the preponderance of the evidence standard. See 20 CFR 404.902, 404.920, 404.953, 416.1402, 416.1420, and 416.1453.

[FR Doc. 2024-28508 Filed 12-5-24; 8:45 am]

BILLING CODE 4191-02-P